DEPARTMENT OF COMMERCE

National Oceanic and Atmospheric Administration

[I.D. 101706D]

Marine Mammals; File No. 1097-1859

AGENCY: National Marine Fisheries Service (NMFS), National Oceanic and Atmospheric Administration (NOAA), Commerce.

ACTION: Notice; issuance of permit.

SUMMARY: Notice is hereby given that Coral World (V.I.), Inc., 6450 Estate Smith Bay, St. Thomas, Virgin Islands 00802 [Gertrude J. Prior, Responsible Party] has been issued a permit to import four South American (Patagonian) sea lions (Otaria flavescens) for public display.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Avenue South, Saint Petersburg, FL 33701; phone (727)824-5312; fax (727)824-5309.

FOR FURTHER INFORMATION CONTACT: Kate Swails or Jennifer Skidmore, (301)713-2289.

SUPPLEMENTARY INFORMATION: On August 10, 2006 notice was published in the Federal Register (71 FR 45778) that a request for a public display permit to import four male sea lions from International Sea Lion Search and Rescue, Koh Samui, Thailand to Coral World Ocean Park had been submitted by the above-named organization. The requested permit has been issued under the authority of the Marine Mammal Protection Act of 1972, as amended (16 U.S.C. 1361 et seq.), the regulations governing the taking and importing of marine mammals (50 CFR part 216).

In compliance with the National Environmental Policy Act of 1969 (42 U.S.C. 4321 et seq.), a determination was made that the permitted activity is categorically excluded from the requirement to prepare an environmental assessment or environmental impact statement.

Dated: October 20, 2006.
P. Michael Payne,
Chief, Permits, Conservation and Education Division, Office of Protected Resources, National Marine Fisheries Service.

[FR Doc. E6-17899 Filed 10-24-06; 8:45 am]

BILLING CODE 3510-22-S